DEPARTMENT OF THE INTERIOR

National Park Service

[NPS-WASO-NRNHL-20708; PPWOCRADI0, PCU00RP14.R50000]

National Register of Historic Places; Notification of Pending Nominations and Related Actions

AGENCY: National Park Service, Interior.

ACTION: Notice.

SUMMARY: The National Park Service is soliciting comments on the significance of properties nominated before March 19, 2016, for listing or related actions in the National Register of Historic Places.

DATES: Comments should be submitted by May 2, 2016.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before March 19, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

CALIFORNIA

Napa County

York House, 1005 Jefferson St., Napa, 16000209

CONNECTICUT

Hartford County

Downtown New Britain, Multiple Addresses, New Britain, 16000210

DISTRICT OF COLUMBIA

District of Columbia

The Furies Collective, 219 11th St. SE., Washington, 16000211

FLORIDA

Duval County

Downtown Jacksonville Historic District, Various Addresses, Jacksonville, 16000212

IOWA

Black Hawk County

Campbell Baking Company, 325 Commercial St., Waterloo, 16000213

Linn County

Sinclair Building—Smulekoffs Furniture Store, 97 3rd Ave. SE., Cedar Rapids, 16000214

Polk County

Flynn Building, 319 7th St., Des Moines, 16000215

MICHIGAN

Bay County

Bay City Masonic Temple, 700 N. Madison Ave., Bay City, 16000216

Mackinac County

Sacred Heart—Gros Cap Church, N903 Gros Cap Rd., Moran Township, 16000217

Wayne County

New Center Commercial Historic District, Woodward Ave.—Baltimore St. to Grand Ave. Detroit, 16000218

NEW JERSEY

Monmouth County

Bell Laboratories—Holmdel, 101 Crawfords Corner Rd., Holmdel Township, 16000223

NEW YORK

Essex County

Essex County Municipal Complex, 7551-7559 Court St., Elizabethtown, 16000224

Rockland County

USCO Church, The, 21 Church St., Garnerville, 16000225

St. Lawrence County

Potsdam Civic Center Complex, 2 Park St., Potsdam, 16000226

NORTH CAROLINA

Alamance County

Western Electric Company—Tarheel Army Missile Plant, 204 Graham—Hopedale Rd., Burlington, 16000219

Cleveland County

Cleveland County Training School, 341 Hudson St., Shelby, 16000220

Pitt County

Fountain Historic District, Roughly bounded by Smith St., Blount St., extending along Wilson St., between Church and Stamper Sts., Fountain, 16000221

Rockingham County

Mayodan Historic District, Roughly bounded by West Adams St., North and South Second Ave., and North and South Third Ave., Mayodan, 16000222

SOUTH CAROLINA

Richland County

Miller Brothers Cotton Warehouse, 705 Gervais St., Columbia, 16000227

WISCONSIN

Outagamie County

Appleton Woolen Mills, 218 East South Island St., Appleton, 16000228

WYOMING

Natrona County

Dean Morgan Junior High School, (Educational Facilities in Wyoming, 1850-1960 MPS) 1440 South Elm St., Casper, 16000229

A request for removal has been received for the following resources:

LOUISIANA

Caddo Parish

Long, Huey P., House, 2403 Laurel St., Shreveport, 91000701

Richland Parish

Mangham State Bank Building, Main and Horace Sts., Mangham, 85000975

St. Tammany Parish

Longbranch Hotel Complex, Rangeline Rd., Abita Springs, 82004623

Tangipahoa Parish

June House, 408 E. Coleman Ave., Hammond, 83000546

Tensas Parish

Bank of Newellton, 207 N. Main St., Newellton, 00000613

Winn Parish

Winnfield Hotel, 302 E. Main St., Winnfield, 80001775

NEW YORK

St. Lawrence County

Wanakena Footbridge, Over Oswegatchie R., bet. Front St. and South Shore Rd., Wanakena, 99001001

Authority: 60.13 of 36 CFR part 60.

Dated: March 24, 2016.
J. Paul Loether,
Chief, National Register of Historic Places/National Historic Landmarks Program.

[FR Doc. 2016-08695 Filed 4-14-16; 8:45 am]

BILLING CODE 4312-51-P